OFFICE OF THE UNITED STATES TRADE REPRESENTATIVE

[Docket Number USTR-2020-0033]

Request for Comments Concerning China's Compliance With World Trade Organization (WTO) Commitments

AGENCY: Office of the United States Trade Representative.

ACTION: Notice.

SUMMARY: The interagency Trade Policy Staff Committee (TPSC) invites comments to assist the Office of the United States Trade Representative (USTR) in the preparation of its annual report to Congress on China's compliance with the commitments made in connection with its accession to the World Trade Organization (WTO). Due to COVID-19, the TPSC will foster public participation via written questions and responses relating to the comments received by the TPSC rather than an in-person hearing. This notice includes the schedule for submission of comments, questions and responses.

DATES:

September 16, 2020 at 11:59 p.m. EDT: Deadline for submission of comments.

September 30, 2020 at 11:59 p.m. EDT: Deadline for the TPSC to pose questions on comments.

October 14, 2020 at 11:59 p.m. EDT: Deadline for submission of commenters' responses to TPSC questions.

ADDRESSES: USTR strongly prefers electronic submissions made through the Federal eRulemaking Portal: http://www.regulations.gov (Regulations.gov). The instructions for submitting comments are in sections 3 and 4 below. The docket number is USTR-2020-0033. For alternatives to online submissions, please contact Yvonne Jamison at Yvonne_D_Jamison@ustr.eop.gov or (202) 395-3475 before transmitting a comment and in advance of the relevant deadline.

FOR FURTHER INFORMATION CONTACT: For procedural questions concerning written submissions, contact Yvonne Jamison at Yvonne_D_Jamison@ustr.eop.gov or (202) 395-3475. Direct all other questions to Tsering Dhongthog, Senior Director for China Affairs, at (202) 395-3900, or Arthur N. Tsao, Chief Counsel for China Enforcement, at (202) 395-3150.

SUPPLEMENTARY INFORMATION:

I. Background

China became a Member of the WTO on December 11, 2001. In accordance with section 421 of the U.S.-China Relations Act of 2000 (Pub. L. 106-286), USTR is required to submit by December 11 of each year, a report to Congress on China's compliance with commitments made in connection with its accession to the WTO, including multilateral commitments and any bilateral commitments made to the United States. In accordance with section 421, and to assist it in preparing this year's report, the TPSC is soliciting public comments. You can find last year's report on USTR's website at https://ustr.gov/sites/default/files/2019_Report_on_China%E2%80%99s_WTO_Compliance.pdf.

The terms of China's accession to the WTO are contained in the Protocol on the Accession of the People's Republic of China (including its annexes) (Protocol), the Report of the Working Party on the Accession of China (Working Party Report), and the WTO agreements. You can find the Protocol and Working Party Report on the WTO website at http://docsonline.wto.org (document symbols: WT/L/432, WT/MIN(01)/3, WT/MIN(01)/3/Add.1, WT/MIN(01)/3/Add.2).

II. Topics on Which the TPSC Seeks Information

The TPSC invites written comments on China's compliance with commitments made in connection with its accession to the WTO, including, but not limited to, commitments in the following areas:

A. Trading rights.

B. Import regulation (e.g., tariffs, tariff-rate quotas, quotas, import licenses).

C. Export regulation.

D. Internal policies affecting trade (e.g., subsidies, standards and technical regulations, sanitary and phytosanitary measures, government procurement, trade-related investment measures, taxes and charges levied on imports and exports).

E. Intellectual property rights (including intellectual property rights enforcement).

F. Services.

G. Rule of law issues (e.g., transparency, judicial review, uniform administration of laws and regulations) and status of legal reform.

H. Other WTO commitments.

In addition, given the United States' view that China should be held accountable as a full participant in, and beneficiary of, the international trading system, USTR requests that interested persons specifically identify unresolved compliance issues that warrant review and evaluation by USTR's China Enforcement Task Force.

III. Public Participation

Due to COVID-19, the TPSC will foster public participation via written submissions rather than an in-person hearing on China's compliance with the commitments made in connection with its accession to the WTO. In accordance with the schedule set out in the Dates section above, USTR invites written comments from the public. The TPSC will review the comments and may pose written clarifying questions to the commenters. The TPSC will post the questions on the public docket, other than questions that include properly designated business confidential information (BCI). USTR will send questions that include properly designated BCI to the relevant commenters by email and will not post these questions on the public docket. Written responses to questions that contain BCI must follow the procedures in section IV below.

IV. Requirements for Submissions

In order to be assured of consideration, USTR must receive your written comments in English by 11:59 p.m. EDT on September 16, 2020. USTR strongly encourages commenters to make on-line submissions, using Regulations.gov. On the first page, please identify the submission as “China's WTO Compliance.”

To submit comments via Regulations.gov, enter docket number USTR-2020-0033 on the home page and click `search.' The site will provide a search-results page listing all documents associated with this docket. Find a reference to this notice and click on the link entitled `comment now.' For further information on using Regulations.gov, please consult the resources provided on the website by clicking on `How to Use Regulations.gov' on the bottom of the home page. USTR will not accept hand-delivered submissions.

Regulations.gov allows users to submit comments by filling in a `type comment' field or by attaching a document using an `upload file' field. USTR prefers that you submit comments in an attached document. If you attach a document, it is sufficient to type `see attached' in the `type comment' field. USTR prefers submissions in Microsoft Word (.doc) or Adobe Acrobat (.pdf). If you use an application other than those two, please indicate the name of the application in the `type comment' field.

Filers submitting comments containing no BCI should name their file using the name of the person or entity submitting the comments. For any comments submitted electronically containing BCI, the file name of the business confidential version should begin with the characters `BCI.' Clearly mark any page containing BCI “BUSINESS CONFIDENTIAL” on the top of that page. Filers of submissions containing BCI also must submit a public version of their comments that USTR will place in the docket for public inspection. The file name of the public version should begin with the character P.' Follow the `BCI' and P' with the name of the person or entity submitting the comments.

Please do not attach separate cover letters to electronic submissions. Instead, include any information that might appear in a cover letter in the comments themselves. Similarly, to the extent possible, please include any exhibits, annexes, or other attachments in the same file as the submission itself, not as separate files.

As noted, USTR strongly urges that you file submissions through Regulations.gov. You must make any alternative arrangements with Yvonne Jamison at Yvonne_D_Jamison@ustr.eop.gov or (202) 395-3475 before submitting a comment and in advance of the relevant deadline.

USTR will post written submissions in the docket for public inspection, except properly designated BCI. You can view written submissions on the Regulations.gov website by entering docket number USTR-2020-0033 in the search field on the home page. General information concerning USTR is available at www.ustr.gov.

Edward Gresser,
Chair of the Trade Policy Staff Committee, Office of the United States Trade Representative.

[FR Doc. 2020-18011 Filed 8-17-20; 8:45 am]

BILLING CODE 3290-F0-P